DEPARTMENT OF THE INTERIOR

National Park Service

National Capital Memorial Advisory Commission; Notice of Public Meeting

AGENCY: Department of the Interior, National Park Service, National Capital Memorial Advisory Commission.

ACTION: Notice of meeting.

SUMMARY: Notice is hereby given that a meeting of the National Capital Memorial Advisory Commission (the Commission) will be held on Tuesday, June 27, 2006, at 1:30 p.m., at the National Building Museum, Room 312, 401 F Street, NW., Washington, DC.

The purpose of the meeting will be to discuss currently authorized and proposed memorials in the District of Columbia and its environs. In addition to discussing general matters and conducting routine business, the Commission will review the status of legislative proposals introduced in the 109th Congress to establish memorials in the District of Columbia and its environs, as follows:

Action Items

(1) Legislation currently under consideration by the 109th Congress.

(a) S. 2495, to authorize the National Mall Liberty Fund D.C. to establish a memorial on Federal land in the District of Columbia to honor slaves and other persons that fought for independence, liberty, and justice for all during the American Revolution.

(b) S. 2236, a bill to extend until October 24m 2015, the authorization establishing a memorial in the District of Columbia or its environs to honor veterans who became disabled while serving in the Armed Forces of the United States (Pub. L. 106-348) which would otherwise expire on October 24, 2007.

(c) H.R. 5057, to authorize the Marion Park Project and Committee of the Palmetto Conservation Foundation to establish a commemorative work on Federal land in the District of Columbia, and its environs to honor Brigadier General Francis Marion.

(d) H.R. 5145, to authorize the National War Dogs Monument, Inc., to establish a national monument in honor of military working dog teams.

(e) Legislative proposal to commemorative the Hungarian Revolution of 1956.

Informational Items

(1) Congressional actions taken on bills previously reviewed by the Commission.

(a) S.J. Res. 28 and H.J. 78, bills to Dwight D. Eisenhower Memorial.

(b) H.R. 562, a bill to authorize the Government of Ukraine to establish a memorial on Federal land in the District of Columbia to honor the victims of the manmade famine that occurred in Ukraine in 1932-1933.

(c) H.R. 4882, a bill to ensure the proper remembrance of Vietnam veterans and the Vietnam War by designating a site for a visitor center for the Vietnam Veterans Memorial.

S. 2419, a bill to ensure the proper remembrance of Vietnam veterans and the Vietnam War by providing a deadline for the designation of a visitor center for the Vietnam Veterans Memorial.

(d) Museum Initiatives.

—Latino Museum Commission H.R. 2134 and S. 2475, bills to establish the Commission to Study the Potential Creation of a National Museum of the American Latino Community to develop a plan of action for the establishment and maintenance of a National Museum of the American Latino Community in Washington, DC.

-National Health Museum. S. 2015, a bill to provide a site for construction of a National Health Museum.

—National Women's History Museum. S. 501 and H.R. 3630, bills to provide a site for the National Women's History Museum in the District of Columbia.

Other Business

(1) General matters and routine business.

The meeting will be open to the public. Any person may file with the Commission a written statement concerning the matters to be discussed. Persons who wish to file a written statement or testify at the meeting or who want further information concerning the meeting may contact Ms. Nancy Young, Secretary to the Commission, at (202) 619-7097.

DATES: Tuesday, June 27, 2006.

ADDRESSES: National Building Museum, Room 312, 401 F Street, NW., Washington, DC 20001.

FOR FURTHER INFORMATION CONTACT: Ms. Nancy Young, Secretary to the Commission, 202-619-7097.

SUPPLEMENTARY INFORMATION: The Commission was established by Public Law 99-652, the Commemorative Works Act (40 U.S.C. chapter 89 et seq.), to advise the Secretary of the Interior (the Secretary) and the Administrator, General Services Administration, (the Administrator) on policy and procedures for establishment of, and proposals to establish, commemorative works in the District of Columbia and its environs, as well as such other matters as it may deem appropriate concerning commemorative works.

The Commission examines each memorial proposal for conformance to the Commemorative Works Act, and makes recommendations to the Secretary and the Administrator and to Members and Committees of Congress. The Commission also serves as a source of information for persons seeking to establish memorials in Washington, DC and its environs.

The members of the Commission are as follows:

Director, National Park Service.

Administrator, General Services Administration.

Chairman, National Capital Planning Commission.

Chairman, Commission of Fine Arts.

Mayor of the District of Columbia.

Architect of the Capitol.

Chairman, American Battle Monuments Commission.

Secretary of Defense.

Dated: April 17, 2005.
Joseph M. Lawler,
Regional Director, National Capital Region.

[FR Doc. 06-4355 Filed 5-9-06; 8:45am]

BILLING CODE 4310-70-M